MERIT SYSTEMS PROTECTION BOARD

Sunshine Act Meeting

Merit Systems Protection Board

ACTION: Notice.

SUMMARY: Pursuant to the Government in the Sunshine Act (5 U.S.C. 552(b)), notice is hereby given that the Merit Systems Protection Board is holding a closed meeting on November 14, 2001, at 2 p.m., in the Board's conference room at 1615 M Street, NW., 6th Floor, Washington, DC 20419. In calling the meeting, the Board determined that Board business required its consideration of the agenda item on less than seven days' notice to the public; that no earlier notice of the meeting was practicable; that the public interest did not require consideration of the matters in a meeting open to public observation; and that the matter could be considered by authority of subsections (c)(10) and (c)(2) of the “Government in the Sunshine Act” (5 U.S.C. 552b(c)(10) and 5 U.S.C.b(c)(2).

Matter to Be Considered:

Briefing of the Board members on issues in the matter of Mohammed Yunus v. Department of Veterans Affairs, and Phillip A. Geyer v. Department of Justice.

CONTACT PERSON FOR ADDITIONAL INFORMATION: Shannon McCarthy or Matthew Shannon, Office of the Clerk of the Board, (202) 653-7200.

Dated: November 9, 2001.
Robert E. Taylor,
Clerk of the Board.

[FR Doc. 01-28691 Filed 11-9-01; 4:35 pm]

BILLING CODE 7400-01-M